NUCLEAR REGULATORY COMMISSION

[NRC-2017-0016]

Guidance for Developing Principal Design Criteria for Non-Light Water Reactors

AGENCY: Nuclear Regulatory Commission.

ACTION: Regulatory guide; issuance.

SUMMARY: The U.S. Nuclear Regulatory Commission (NRC) is issuing Revision 0 to Regulatory Guide (RG) 1.232, “Guidance for Developing Principal Design Criteria for Non-Light Water Reactors.” This new RG provides designers, applicants, and licensees of non-light water nuclear reactors guidance for developing principal design criteria (PDC) for a proposed facility. The PDC establish the necessary design, fabrication, construction, testing, and performance requirements for structures, systems, and components important to safety; that is, structures, systems, and components that provide reasonable assurance that the facility can be operated without undue risk to the health and safety of the public.

DATES: Revision 0 to RG 1.232 is available on April 9, 2018.

ADDRESSES: Please refer Docket ID NRC-2017-0016 when contacting the NRC about the availability of information regarding this document. You may obtain publicly-available information related to this document using any of the following methods:

• Federal Rulemaking website: Go to http://www.regulations.gov and search for Docket ID NRC-2017-0016. Address questions about NRC dockets to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. Revision 0 to RG 1.232 and the regulatory analysis may be found in ADAMS under Accession Nos. ML17325A611 and ML16330A179 respectively.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Jan Mazza, Office of New Reactors, telephone 301-415-0498, email: Jan.Mazza@nrc.gov and Stanley Gardocki, Office of Nuclear Regulatory Research, telephone: 301-415-1067, email: Stanley.Gardocki@nrc.gov. Both are staff of the U.S. Nuclear Regulatory Commission, Washington, DC 20555-0001.

SUPPLEMENTARY INFORMATION:

I. Discussion

The NRC is issuing a new guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

II. Additional Information

The NRC published a notice of the availability of DG-1330 in the Federal Register on February 3, 2017, Volume 82, No. 22, page 9246, for a 60-day public comment period. The public comment period closed on April 4, 2017. DG-1330 and public comments on DG-1330, along with the staff responses to the public comments are available under ADAMS Accession Nos. ML16301A307 and ML17325A616, respectively.

III. Congressional Review Act

This RG is a rule as defined in the Congressional Review Act (5 U.S.C. 801-808). However, the Office of Management and Budget has not found it to be a major rule as defined in the Congressional Review Act.

IV. Backfitting and Issue Finality

RG 1.232 provides guidance for establishing the PDC for non-light water reactor nuclear power plants. The purpose of RG 1.232 is to provide regulatory guidance to assist the NRC staff and future applicants. RGs are not regulatory requirements. Applications for a construction permit, design certification, combined license, standard design approval, or manufacturing license are required by section 50.34(a)(3) of title 10 of the Code of Federal Regulations (10 CFR), 10 CFR 52.47(a)(3)(i), 10 CFR 52.79(a)(4)(i), 10 CFR 52.137(a)(3)(i), and 10 CFR 52.157(a), respectively, to include the PDC for the facility in their applications. The non-light water reactor design criteria in RG 1.232 provides guidance intended to support the development of the PDC.

Issuance of this RG does not constitute backfitting as defined in 10 CFR 50.109 (referred to as the Backfit Rule) and is not otherwise inconsistent with the issue finality provisions in 10 CFR part 52. As discussed in the “Implementation” section of this RG, the NRC has no current intention to impose this guidance on any current licensees.

Dated at Rockville, Maryland, this 4th day of April 2018.
For the Nuclear Regulatory Commission.
Thomas H. Boyce,
Chief, Regulatory Guidance and Generic Issues Branch, Division of Engineering, Office of Nuclear Regulatory Research.

[FR Doc. 2018-07214 Filed 4-6-18; 8:45 am]

BILLING CODE 7590-01-P